DEPARTMENT OF THE INTERIOR

Fish and Wildlife Service

[FWS-R7-ES-2017-N057; FF07CAMM00.FX.ES111607MRG02]

Agency Information Collection Activities: OMB Control Number 1018-0066; Marine Mammal Marking, Tagging, and Reporting Certificates, and Registration of Certain Dead Marine Mammal Hard Parts

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on June 30, 2017. We may not conduct or sponsor and a person is not required to respond to a collection of information unless it displays a currently valid OMB control number. However, under OMB regulations, we may continue to conduct or sponsor this information collection while it is pending at OMB.

DATES: You must submit comments on or before July 19, 2017.

ADDRESSES: Send your comments and suggestions on this information collection to the Desk Officer for the Department of the Interior at OMB-OIRA at (202) 395-5806 (fax) or OIRA_DOCKET@OMB.eop.gov (email). Please provide a copy of your comments to the Service Information Collection Clearance Officer, U.S. Fish and Wildlife Service, MS BPHC, 5275 Leesburg Pike, Falls Church, VA 22041-3803 (mail), or info_coll@fws.gov (email). Please include “1018-0066” in the subject line of your comments. You may review the ICR online at http://www.reginfo.gov. Follow the instructions to review Department of the Interior collections under review by OMB.

FOR FURTHER INFORMATION CONTACT: Service Information Collection Clearance Officer, at info_coll@fws.gov (email) or (703) 358-2503 (telephone).

SUPPLEMENTARY INFORMATION:

I. Abstract

Under section 101(b) of the Marine Mammal Protection Act of 1972 (MMPA), as amended (16 U.S.C. 1361-1407), Alaska Natives residing in Alaska and dwelling on the coast of the North Pacific or Arctic Oceans may harvest polar bears, northern sea otters, and Pacific walruses for subsistence or handicraft purposes. Section 109(i) of the MMPA authorizes the Secretary of the Interior to prescribe marking, tagging, and reporting regulations applicable to the Alaska Native subsistence and handicraft take.

On behalf of the Secretary, we implemented regulations at 50 CFR 18.23(f) for Alaska Natives harvesting polar bears, northern sea otters, and Pacific walruses. These regulations enable us to gather data on the Alaska Native subsistence and handicraft harvest and on the biology of polar bears, northern sea otters, and Pacific walruses in Alaska to determine what effect such take may be having on these populations. The regulations also provide us with a means of monitoring the disposition of the harvest to ensure that any commercial use of products created from these species meets the criteria set forth in section 101(b) of the MMPA. We use three forms to collect the information: FWS Form 3-2414 (Polar Bear Tagging Certificates), FWS Form 3-2415 (Walrus Tagging Certificates), and FWS Form 3-2416 (Sea Otter Tagging Certificates). The information we collect includes, but is not limited to:

• Date of kill;

• Sex of the animal;

• Kill location;

• Age of the animal (i.e., adult, subadult, cub, or pup);

• Form of transportation used to make the kill of polar bears;

• Amount of time (i.e., hours/days hunted) spent hunting polar bears;

• Type of take (live-killed or beach-found) for walrus;

• Number of otters present in and number of otters harvested from pod;

• Condition of the polar bear and whether or not bear cubs were present; and

• Name of the hunter or possessor of the specified parts at the time of marking, tagging, and reporting.

We use FWS Form 3-2406 (Registration of Certain Dead Marine Mammal Hard Parts) to record the collection of bones, teeth, or ivory of dead marine mammals by non-Native and Natives not eligible to harvest marine mammals under the MMPA. It is legal to collect such parts from a beach or from land within a quarter of a mile of the ocean (50 CFR 18.26). The information we collect via Form 3-2406 includes, but is not limited to:

• Date and location found.

• Age, sex, and size of the animal.

• Tag numbers.

• Name, address, phone number, and birthdate of the collector.

II. Data

OMB Control Number: 1018-0066.

Title: Marine Mammal Marking, Tagging, and Reporting Certificates, and Registration of Certain Dead Marine Mammal Hard Parts, 50 CFR 18.23(f) and 18.26.

Service Form Number(s): FWS Forms 3-2406, 3-2414, 3-2415, and 3-2416.

Type of Request: Extension of a currently approved collection.

Description of Respondents: Individuals and households.

Respondent's Obligation: Required to obtain or retain a benefit.

Frequency of Collection: On occasion.

Activity | Number of respondents | Number of responses | Completion time per response (minutes) | Total annual burden hours
3-2414 (Polar Bear) | 25 | 60 | 15 | 15
3-2415 (Walrus) | 100 | 500 | 15 | 125
3-2416 (Sea Otter) | 75 | 1,280 | 15 | 320
3-2406 (Beach Found) | 300 | 300 | 15 | 75
Totals | 500 | 2,140 |  | 535

Estimated Annual Nonhour Burden Costs: None.

III. Comments

On February 24, 2017, we published in the Federal Register (82 FR 11598) a notice of our intent to request that OMB approve this information collection. In that notice, we solicited comments for 60 days, ending on April 25, 2017. We received one comment in response to that notice:

Email comment dated April 24, 2017 from Marine Mammal Commission.

The Marine Mammal Commission supports the continuation of the information collection programs related to the taking of marine mammals for subsistence and handicraft purposes by Alaska Natives. Collection of this information is authorized under section 109(i) of the Marine Mammal Protection Act. This information is important for tracking Native use of marine mammals and to provide the documentation that marine mammal parts were legally taken.

The Commission also supports the continued use of FWS Form 3-2406 for registering marine mammal hard parts found on beaches and near shore areas. Under applicable regulations, these parts can be retained only if they are registered with the FWS (or NMFS). As such, retention of the registration form is necessary.

FWS Response: None required.

IV. Request for and Availability of Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

V. Authorities

The authorities for this action are the Marine Mammal Protection Act of 1972 (MMPA), as amended (16 U.S.C. 1361-1407) and the Paperwork Reduction Act of 1995 (44 U.S.C. 3501 et seq.).

Dated: June 14, 2017.
Madonna L. Baucum,
Information Collection Clearance Officer, U.S. Fish and Wildlife Service.

[FR Doc. 2017-12727 Filed 6-16-17; 8:45 am]

BILLING CODE 4333-15-P